DEPARTMENT OF TRANSPORTATION

Federal Aviation Administration

14 CFR Part 71

[Docket No. FAA-2007-0275; Airspace Docket No. 07-AEA-15]

Establishment of Class E Airspace, Emporium, PA

AGENCY: Federal Aviation Administration (FAA), DOT.

ACTION: Final rule; confirmation of effective date, correction.

SUMMARY: This action confirms the effective date and corrects an error in the airport name listed in a direct final rule published in the Federal Register January 30, 2008, that established Class E controlled airspace at Emporium, PA (73 FR 5432) Docket No. FAA-2007-0275.

DATES: Effective 0901 UTC, July 16, 2008. The Director of the Federal Register approves this incorporation by reference action under Title 1, Code of Federal Regulations, part 51, subject to the annual revision of FAA Order 7400.9 and publication of conforming amendments.

FOR FURTHER INFORMATION CONTACT: Daryl Daniels, Airspace Specialist, System Support, AJO2-E2B.12, FAA Eastern Service Center, 1701 Columbia Ave., College Park, GA 30337; telephone (404) 305-5581; fax (404) 305-5572.

SUPPLEMENTARY INFORMATION:

History

The FAA published a direct final rule with request for comments in the Federal Register January 30, 2008, (73 FR 5432) Docket No. FAA-2007-0275. In that rule, airspace was established to serve a landing site at the local High School, however, after publication, an error was discovered in the name used for the heliport. The correct name should have read “Cameron County Junior/Senior High School Heliport”. This action corrects this error.

Confirmation of Effective Date

The FAA uses the direct final rulemaking procedure for a noncontroversial rule where the FAA believes that there will be no adverse public comment. This direct final rule advised the public that no adverse comments were anticipated, and that unless a written adverse comment, or a written notice of intent to submit such an adverse comment were received within the comment period, the regulation would become effective on April 10, 2008. No adverse comments were received, and thus this notice also confirms that effective date.

Correction

Accordingly, pursuant to the authority delegated to me, the publication in the Federal Register dated January 30, 2008 (73 FR 5432, Federal Register Docket No. FAA-2007-0275, on page 5433, column 3, line 42 and line 50), is corrected to read:

Cameron County Junior/Senior High School Heliport.

* * * * *

Issued in College Park, GA, on April 25, 2008.
Mark A. Ward,
Manager, Operations Support Group, Eastern Service Center, Air Traffic Organization.

[FR Doc. E8-15549 Filed 7-15-08; 8:45 am]

BILLING CODE 4910-13-M